DEPARTMENT OF TRANSPORTATION

Federal Aviation Administration

[Summary Notice No. PE-2017-51]

Petition for Exemption; Summary of Petition Received; Rolls-Royce plc

AGENCY: Federal Aviation Administration (FAA), Department of Transportation (DOT).

ACTION: Notice of Petition for Exemption Received.

SUMMARY: This notice contains a summary of a petition seeking relief from specified requirements of Title 14, Code of Federal Regulations (14 CFR). The purpose of this notice is to improve the public's awareness of, and participation in, the FAA's exemption process. Neither publication of this notice nor the inclusion or omission of information in the summary is intended to affect the legal status of the petition or its final disposition.

DATES: Comments on this petition must identify the petition docket number and must be received on or before August 8, 2017.

ADDRESSES: Send comments identified by docket number FAA-2017-0647 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE., Washington, DC 20590-0001, between 9 a.m. and 5 p.m., Monday through Friday, except Federal holidays.

FOR FURTHER INFORMATION CONTACT: Tara Fitzgerald, Federal Aviation Administration, Engine and Propeller Directorate, Standards Staff, ANE-112, 1200 District Avenue, Burlington, Massachusetts 01803-5229; (781) 238-7130; facsimile: (781) 238-7199; email: tara.fitzgerald@faa.gov.

This notice is published pursuant to 14 CFR 11.85.

Issued in Burlington, Massachusetts, on July 6, 2017.
Carlos Pestana,
Acting Assistant Manager, Engine and Propeller Directorate, Aircraft Certification Service.

Petition for Exemption

Docket No.: FAA-2017-0647.

Petitioner: Rolls-Royce plc.

Section of 14 CFR Affected: 14 CFR 33.27(f)(6).

Description of Relief Sought: Rolls-Royce plc petitions for exemption from § 33.27 (f)(6) for the Trent XWB-97 engine model to exclude the entire high-pressure shaft system from failure consideration in determining the highest overspeed that would result from a complete loss of load on a turbine rotor.

[FR Doc. 2017-15157 Filed 7-18-17; 8:45 am]

BILLING CODE 4910-13-P